DEPARTMENT OF ENERGY

Federal Energy Regulatory Commission

Combined Notice of Filings

Take notice that the Commission has received the following Natural Gas Pipeline Rate and Refund Report filings:

Docket Numbers: RP20-1222-000.

Applicants: Enable Gas Transmission, LLC.

Description: Annual Report of Total Penalty Revenue Credits of Enable Gas Transmission, LLC under RP20-1222.

Filed Date: 9/24/20.

Accession Number: 20200924-5176.

Comments Due: 5 p.m. ET 10/6/20.

Docket Numbers: RP20-1223-000.

Applicants: Enable Gas Transmission, LLC.

Description: Annual Linked Firm Service Penalty Revenue Credits Report of Enable Gas Transmission, LLC under RP20-1223.

Filed Date: 9/24/20.

Accession Number: 20200924-5177.

Comments Due: 5 p.m. ET 10/6/20.

Docket Numbers: RP21-1-000.

Applicants: Viking Gas Transmission Company.

Description: § 4(d) Rate Filing: Update of Non-Conforming Agreements—AF0022 to be effective 11/1/2020.

Filed Date: 10/1/20.

Accession Number: 20201001-5000.

Comments Due: 5 p.m. ET 10/13/20.

Docket Numbers: RP21-2-000.

Applicants: NEXUS Gas Transmission, LLC.

Description: § 4(d) Rate Filing: Negotiated Rates—Releases eff 10-1 to be effective 10/1/2020.

Filed Date: 10/1/20.

Accession Number: 20201001-5001.

Comments Due: 5 p.m. ET 10/13/20.

Docket Numbers: RP21-3-000.

Applicants: Maritimes & Northeast Pipeline, L.L.C.

Description: § 4(d) Rate Filing: Negotiated Rates—Atlantic Bridge eff 10-01-2020 to be effective 10/1/2020.

Filed Date: 10/1/20.

Accession Number: 20201001-5002.

Comments Due: 5 p.m. ET 10/13/20.

Docket Numbers: RP21-4-000.

Applicants: Maritimes & Northeast Pipeline, L.L.C.

Description: § 4(d) Rate Filing: Atlantic Bridge—NC Agreement Filing to be effective 10/1/2020.

Filed Date: 10/1/20.

Accession Number: 20201001-5003.

Comments Due: 5 p.m. ET 10/13/20.

Docket Numbers: RP21-5-000.

Applicants: Guardian Pipeline, L.L.C.

Description: § 4(d) Rate Filing: EPCR Semi-Annual Adjustment—Fall 2020 to be effective 11/1/2020.

Filed Date: 10/1/20.

Accession Number: 20201001-5027.

Comments Due: 5 p.m. ET 10/13/20.

Docket Numbers: RP21-6-000.

Applicants: El Paso Natural Gas Company, L.L.C.

Description: § 4(d) Rate Filing: Negotiated Rate Agreement Filing (PGE Core) to be effective 11/1/2020.

Filed Date: 10/1/20.

Accession Number: 20201001-5028.

Comments Due: 5 p.m. ET 10/13/20.

Docket Numbers: RP21-7-000.

Applicants: Columbia Gas Transmission, LLC.

Description: § 4(d) Rate Filing: TCO SWN Amendment—Cont. 198797 to be effective 10/1/2020.

Filed Date: 10/1/20.

Accession Number: 20201001-5051.

Comments Due: 5 p.m. ET 10/13/20.

Docket Numbers: RP21-8-000.

Applicants: Equitrans, L.P.

Description: § 4(d) Rate Filing: Negotiated Rate Capacity Release Agreements—10/1/2020 to be effective 10/1/2020.

Filed Date: 10/1/20.

Accession Number: 20201001-5052.

Comments Due: 5 p.m. ET 10/13/20.

Docket Numbers: RP21-9-000.

Applicants: Guardian Pipeline, L.L.C.

Description: § 4(d) Rate Filing: Transporter Use Gas Annual Adjustment—Fall 2020 to be effective 11/1/2020.

Filed Date: 10/1/20.

Accession Number: 20201001-5060.

Comments Due: 5 p.m. ET 10/13/20.

Docket Numbers: RP21-10-000.

Applicants: Kern River Gas Transmission Company.

Description: § 4(d) Rate Filing: 2020 Housekeeping Original Volume 1A to be effective 11/1/2020.

Filed Date: 10/1/20.

Accession Number: 20201001-5078.

Comments Due: 5 p.m. ET 10/13/20.

Docket Numbers: RP21-11-000.

Applicants: Chandeleur Pipe Line, LLC.

Description: § 4(d) Rate Filing: Chandeleur Updates to Gas Tariff to be effective 11/1/2020.

Filed Date: 10/1/20.

Accession Number: 20201001-5080.

Comments Due: 5 p.m. ET 10/13/20.

Docket Numbers: RP21-12-000.

Applicants: Cimarron River Pipeline, LLC.

Description: § 4(d) Rate Filing: Fuel Tracker 2020—Winter Season Rates to be effective 11/1/2020.

Filed Date: 10/1/20.

Accession Number: 20201001-5086.

Comments Due: 5 p.m. ET 10/13/20.

Docket Numbers: RP21-13-000.

Applicants: Viking Gas Transmission Company.

Description: § 4(d) Rate Filing: Semi-Annual Fuel and Losses Retention Adjustment—Winter 2020 Rate to be effective 11/1/2020.

Filed Date: 10/1/20.

Accession Number: 20201001-5100.

Comments Due: 5 p.m. ET 10/13/20.

Docket Numbers: RP21-14-000.

Applicants: Guardian Pipeline, L.L.C.

Description: § 4(d) Rate Filing: Negotiated Rate PAL Agreements—Wis. Electric & Wis. Public Service Corp to be effective 11/1/2020.

Filed Date: 10/1/20.

Accession Number: 20201001-5115.

Comments Due: 5 p.m. ET 10/13/20.

Docket Numbers: RP21-15-000.

Applicants: Texas Gas Transmission, LLC.

Description: § 4(d) Rate Filing: 2020 Fuel Tracker Filing to be effective 11/1/2020.

Filed Date: 10/1/20.

Accession Number: 20201001-5124.

Comments Due: 5 p.m. ET 10/13/20.

Docket Numbers: RP21-16-000.

Applicants: El Paso Natural Gas Company, L.L.C.

Description: § 4(d) Rate Filing: Non-Conforming Agreement Filing (UNS) to be effective 11/1/2020.

Filed Date: 10/1/20.

Accession Number: 20201001-5132.

Comments Due: 5 p.m. ET 10/13/20.

Docket Numbers: RP21-17-000.

Applicants: Saltville Gas Storage Company L.L.C.

Description: § 4(d) Rate Filing: SGSC 2020 Fuel Filing to be effective 11/1/2020.

Filed Date: 10/1/20.

Accession Number: 20201001-5135.

Comments Due: 5 p.m. ET 10/13/20.

Docket Numbers: RP21-18-000.

Applicants: Alliance Pipeline L.P.

Description: § 4(d) Rate Filing: APL 2020 Fuel Filing to be effective 11/1/2020.

Filed Date: 10/1/20.

Accession Number: 20201001-5146.

Comments Due: 5 p.m. ET 10/13/20.

Docket Numbers: RP21-19-000.

Applicants: Cheniere Corpus Christi Pipeline, LP.

Description: § 4(d) Rate Filing: TRA—November 2020 to be effective 11/1/2020.

Filed Date: 10/1/20.

Accession Number: 20201001-5182.

Comments Due: 5 p.m. ET 10/13/20.

Docket Numbers: RP21-20-000.

Applicants: Algonquin Gas Transmission, LLC.

Description: § 4(d) Rate Filing: AGT LINK URL Conversion Filing to be effective 11/1/2020.

Filed Date: 10/1/20.

Accession Number: 20201001-5194.

Comments Due: 5 p.m. ET 10/13/20.

Docket Numbers: RP21-21-000.

Applicants: East Tennessee Natural Gas, LLC.

Description: § 4(d) Rate Filing: ETNG LINK URL Conversion Filing to be effective 11/1/2020.

Filed Date: 10/1/20.

Accession Number: 20201001-5195.

Comments Due: 5 p.m. ET 10/13/20.

Docket Numbers: RP21-22-000.

Applicants: Gulf South Pipeline Company, LLC.

Description: § 4(d) Rate Filing: Cap Rel Neg Rate Agmt (Mobile 42488 to Southern 53164) to be effective 10/1/2020.

Filed Date: 10/1/20.

Accession Number: 20201001-5199.

Comments Due: 5 p.m. ET 10/13/20.

Docket Numbers: RP21-23-000.

Applicants: Gulf South Pipeline Company, LLC.

Description: § 4(d) Rate Filing: Permanent Capacity Release Agreements (Aethon 52424, 53154) to be effective 10/1/2020.

Filed Date: 10/1/20.

Accession Number: 20201001-5201.

Comments Due: 5 p.m. ET 10/13/20.

Docket Numbers: RP21-24-000.

Applicants: Transcontinental Gas Pipe Line Company, LLC.

Description: § 4(d) Rate Filing: Initial Cash Out Refund/Surcharge Rate Filing to be effective 11/1/2020.

Filed Date: 10/1/20.

Accession Number: 20201001-5202.

Comments Due: 5 p.m. ET 10/13/20.

Docket Numbers: RP21-25-000.

Applicants: Sabal Trail Transmission, LLC.

Description: § 4(d) Rate Filing: STT LINK URL Conversion Filing to be effective 11/1/2020.

Filed Date: 10/1/20.

Accession Number: 20201001-5203.

Comments Due: 5 p.m. ET 10/13/20.

Docket Numbers: RP21-26-000.

Applicants: Northern Natural Gas Company.

Description: § 4(d) Rate Filing: 20201001 Carlton and DDVC Tariff Changes to be effective 11/1/2020.

Filed Date: 10/1/20.

Accession Number: 20201001-5208.

Comments Due: 5 p.m. ET 10/13/20.

Docket Numbers: RP21-29-000.

Applicants: Guardian Pipeline, L.L.C.

Description: § 4(d) Rate Filing: Update Non-Conforming Agreements FT2001, FT2002, and FT2003 to be effective 11/1/2020.

Filed Date: 10/1/20.

Accession Number: 20201001-5212.

Comments Due: 5 p.m. ET 10/13/20.

Docket Numbers: RP21-30-000.

Applicants: Dominion Energy Transmission, Inc.

Description: § 4(d) Rate Filing: DETI—October 1, 2020 Nonconforming Service Agreements to be effective 11/1/2020.

Filed Date: 10/1/20.

Accession Number: 20201001-5213.

Comments Due: 5 p.m. ET 10/13/20.

Docket Numbers: RP21-31-000.

Applicants: WBI Energy Transmission, Inc.

Description: Annual Penalty Revenues Credit Report of WBI Energy Transmission, Inc. under RP21-31.

Filed Date: 10/1/20.

Accession Number: 20201001-5229.

Comments Due: 5 p.m. ET 10/13/20.

Docket Numbers: RP21-32-000.

Applicants: Guardian Pipeline, L.L.C.

Description: § 4(d) Rate Filing: Update of Non-Conforming and Negotiated Rate Rate Agreements FT0001 and RT0183 to be effective 11/1/2020.

Filed Date: 10/1/20.

Accession Number: 20201001-5245.

Comments Due: 5 p.m. ET 10/13/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 2, 2020.
Nathaniel J. Davis, Sr.,
Deputy Secretary.

[FR Doc. 2020-22328 Filed 10-7-20; 8:45 am]

BILLING CODE 6717-01-P